DEPARTMENT OF VETERANS AFFAIRS

Performance Review Board Members

AGENCY: Department of Veterans Affairs.

ACTION: Notice.

SUMMARY: Under the provisions of 5 U.S.C. 4314(c)(4) agencies are required to publish a notice in the Federal Register of the appointment of Performance Review Board (PRB) members. This notice updates the VA Performance Review Board of the Department of Veterans Affairs that was published in the Federal Register on October 16, 2009 (Vol. 74, No. 199).

DATES: Effective Date: November 26, 2010.

FOR FURTHER INFORMATION CONTACT: Dadrian Brown, Human Resources Specialist, Corporate Senior Executive Management Office (006E), Department of Veterans Affairs, 810 Vermont Avenue, NW., Washington, DC 20420, (202) 461-7078.

VA Performance Review Board (PRB)

Primary Board Members

John U. Sepúlveda, Assistant Secretary for Human Resources and Administration (Chairperson).

Fernando Rivera, Acting Network Director, VISN 5.

Michael Cardarelli, Acting Deputy Under Secretary for Benefits.

Paul Hutter, Chief of Staff, Veterans Health Administration.

Robert L. Neary, Associate Chief Facilities Management Officer for Service Delivery, Office of Acquisition, Logistics and Construction.

Will A. Gunn, General Counsel.

William T. Grams, Acting Assistant Secretary for Management.

Martha Orr, Executive Director, Quality, Performance, and Oversight, Office of Information and Technology.

Raul Perea-Henze, Assistant Secretary for Policy and Planning.

Tonya M. Deanes, Deputy Assistant Secretary, Office of Human Resources Management.

Patricia C. Adams, Deputy Assistant Secretary of the Navy, Civilian Human Resources.

Alternate Board Members

Deborah McCallum, Assistant General Counsel.

Diana Rubens, Associate Deputy Under Secretary for Field Operations, VBA.

Madhulika Agarwal, Chief Officer, Patient Care Services, VHA.

Rose K. Quicker, Associate Chief Facilities Management Officer for Resource Management, Office of Acquisition, Logistics and Construction.

Walter Hall, Assistant General Counsel.

James Sullivan, Director, Office of Asset and Enterprise Management, Office of Management.

Rom Mascetti, Deputy Assistant Secretary for Resource Management, Office of Information and Technology.

Dat Tran, Director, National Center for Veterans Analysis and Statistics, Office of Policy and Planning.

Dated: November 16, 2010.
Eric K. Shinseki,
Secretary of Veterans Affairs.

[FR Doc. 2010-29696 Filed 11-24-10; 8:45 am]

BILLING CODE 8320-01-P